DEPARTMENT OF TRANSPORTATION

Federal Aviation Administration

14 CFR Part 39

[Docket No. FAA-2012-1015; Directorate Identifier 2007-SW-069-AD; Amendment 39-17363; AD 2013-04-06]

RIN 2120-AA64

Airworthiness Directives; Eurocopter France Helicopters

AGENCY: Federal Aviation Administration (FAA), DOT.

ACTION: Final rule.

SUMMARY: We are adopting a new airworthiness directive (AD) for the Eurocopter France (Eurocopter) Model AS332C, AS332L, and AS332L1 helicopters. This AD requires modifying the main landing gear control panel (control panel) 33G, connector 100G, and wiring. It also requires tests to ensure that these modifications function correctly. This AD was prompted by reports of electro-valve power supply disruptions while a helicopter is on the ground, causing the landing gear to retract and the helicopter nose to drop. This results in damage to the forward section of the helicopter's bottom structure. The actions of this AD are intended to prevent an uncommanded landing gear retraction that would cause the helicopter nose to drop and hit the ground while the rotor blades are spinning.

DATES: This AD is effective April 15, 2013.

The Director of the Federal Register approved the incorporation by reference of a certain document listed in this AD as of April 15, 2013.

ADDRESSES: For service information identified in this AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: George Schwab, Aviation Safety Engineer, FAA, Rotorcraft Directorate, Safety Management Group, 2601 Meacham Blvd., Fort Worth, Texas, 76137; telephone: (817) 222-5114; fax: (817) 222-5961; email: george.schwab@faa.gov.

SUPPLEMENTARY INFORMATION:

Discussion

On September 25, 2012, at 77 FR 58973, the Federal Register published our notice of proposed rulemaking (NPRM), which proposed to amend 14 CFR part 39 to include an AD that would apply to Eurocopter Model AS332C, AS332L, and AS332L1 helicopters not modified per modification (MOD) 0723817, MOD 0725670, MOD 332P083218 or MOD 332A088381, with a control panel 33G, part number 332A67-1623-00, -06, -0610, or -0651. That NPRM proposed to require modifying the control panel 33G, connector 100G, and wiring. It also proposed to require tests to ensure that these modifications function correctly. The proposed requirements were intended to prevent an uncommanded landing gear retraction that would cause the helicopter nose to drop and hit the ground while the rotor blades are spinning.

The European Aviation Safety Agency (EASA), which is the Technical Agent for the Member States of the European Union, has issued EASA AD No. 2006-0152, dated May 30, 2006, to correct an unsafe condition for Eurocopter Model AS332C, AS332C1, AS332L, and AS332L1 helicopters. EASA advises of electro-valve power supply disruptions, which caused the landing gear to retract and the helicopter to drop, resulting in damage to the forward section of the helicopter's bottom structure. AD 2006-0152 requires compliance with Eurocopter Alert Service Bulletin (ASB) No. 32.00.18, Revision 1, dated March 27, 2006, or later revisions and supersedes Direction Generale de L'Aviation Civile France AD No. F-2005-100, dated June 22, 2005.

Comments

We gave the public the opportunity to participate in developing this AD, but we received no comments on the NPRM (77 FR 58973, September 25, 2012).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

This AD differs from the EASA AD as follows:

• This AD requires compliance within 90 days, while the EASA AD requires compliance within 3 months. The EASA AD also addresses spare parts, and this AD does not address spare parts.

• The EASA AD requires a repeat of the tests for helicopters that have been modified in compliance with AD F-2005-100, and this AD does not.

• The EASA AD also applies to the Model AS332C1 helicopter, and this AD does not because this model does not have an FAA-issued type certificate.

Related Service Information

We reviewed Eurocopter ASB No. 32.00.18, Revision 2, dated July 12, 2010, for Model AS332C, AS332C1, AS332L, and AS332L1 helicopters and military Model AS332B, AS332B1, AS332M, AS332M1, AS332F1 helicopters with the specified control panel 33G. That ASB states that electrical interferences on the solenoid valve power supply line have caused untimely retraction of the main landing gear, causing helicopters to sink, resulting in damage to the front section of the helicopter's bottom structure. The ASB describes procedures for modifying the main landing gear control tab on the control panel 33G, replacing the fixed connector on the control panel 33G, replacing the removable connector on the corresponding wiring, and testing the affected systems to ensure that these modifications function correctly. The ASB states that these actions are intended to prevent untimely power supply to the solenoid valve when the main landing gear control tab is on “extended” and to avoid main landing gear retraction. EASA AD 2006-0152 classified portions of the ASB as mandatory.

Costs of Compliance

We estimate that this AD affects three helicopters of U.S. registry. We estimate the following costs to comply with this AD:

We estimate that modification of the control panel, connector, and wiring takes one work hour to complete at $85 per hour, and that parts cost $293. Performing function tests takes about 4.5 hours to complete, for a total labor cost of $383. Thus, we estimate a total cost per helicopter of $761, and a total cost of $2,283 for the fleet.

We do not control warranty coverage. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-04-06 Eurocopter France (Eurocopter): Amendment 39-17363; Docket No. FAA-2012-1015; Directorate Identifier 2007-SW-069-AD.

(a) Applicability

This AD applies to Eurocopter Model AS332C, AS332L, and AS332L1 helicopters not modified per modification (MOD) 0723817, MOD 0725670, MOD 332P083218 or MOD 332A088381, with a main landing gear control panel (control panel) 33G, part number (P/N) 332A67-1623-00, -06, -0610, or -0651; certificated in any category.

(b) Unsafe Condition

This AD defines the unsafe condition as an uncommanded landing gear retraction, which could cause the helicopter nose to drop and hit the ground while the rotor blades are spinning.

(c) Effective Date

This AD becomes effective April 15, 2013.

(d) Compliance

You are responsible for performing each action required by this AD within the specified compliance time unless it has already been accomplished prior to that time.

(e) Required Actions

Within 90 days, modify the control panel 33G and connector 100G, route the 1GA5103E wiring, and perform the tests in accordance with the Accomplishment Instructions, Paragraphs 2.B 2.a. through 2.B.3.d., and as depicted in figures 1 and 2, of Eurocopter Alert Service Bulletin No 32.00.18, Revision 2, dated July 12, 2010.

(f) Alternative Methods of Compliance (AMOCs)

(1) The Manager, Safety Management Group, FAA, may approve AMOCs for this AD. Send your proposal to: George Schwab, Aviation Safety Engineer, FAA, Rotorcraft Directorate, Safety Management Group, 2601 Meacham Blvd., Fort Worth, Texas, 76137; telephone: (817) 222-5114; fax: (817) 222-5961; email: george.schwab@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency AD No. 2006-0152, dated May 30, 2006.

(h) Subject

Joint Aircraft Service Component (JASC) Code: 3230, landing gear retract/extend system.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter France Alert Service Bulletin No. 32.00.18, Revision 2, dated July 12, 2010.

(ii) Reserved.

(3) For Eurocopter service information identified in this AD, contact American Eurocopter Corporation, 2701 N. Forum Drive, Grand Prairie, TX 75052, telephone (972) 641-0000 or (800) 232-0323, fax (972) 641-3775, or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on February 8, 2013.
Kim Smith,
Manager, Rotorcraft Directorate, Aircraft Certification Service.

[FR Doc. 2013-04224 Filed 3-8-13; 8:45 am]

BILLING CODE 4910-13-P